DEPARTMENT OF ENERGY

Federal Energy Regulatory Commission

[Docket No. RP03-64-005]

Gulf South Pipeline Company, LP; Notice of Compliance Filing

May 27, 2005.

Take notice that on May 20, 2005, Gulf South Pipeline Company, LP (Gulf South) tendered for filing as part of its FERC Gas Tariff, Sixth Revised Volume No. 1, the following tariff sheets, with an effective date of June 27, 2005:

Third Revised Sheet No. 301

Fourth Revised Sheet No. 400

Fifth Substitute Original Sheet No. 1205

Fourth Revised Sheet No. 1413

Third Revised Sheet No. 1417

Third Revised Sheet No. 3702

Fifth Revised Sheet No. 3706

Gulf South states that it has modified Sheet No. 1205 to be effective August 17, 2004 to provide that a new non-creditworthy Customer shall provide security based upon 10% of its estimated usage for the first seven months of business. Gulf South states that it also has removed the requirement that Gulf South credit that cash pool with any proceeds retained due to customer default related to transportation imbalance security.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-2820 Filed 6-2-05; 8:45 am]

BILLING CODE 6717-01-P